NUCLEAR REGULATORY COMMISSION

[Docket Nos. 50-390-CivP, 50-327-CivP, 50-328-CivP, 50-259-CivP, 50-260-CivP, 50-296-CivP (EA 99-234); ASLBP No. 01-791-01-CivP]

Tennessee Valley Authority Nuclear Power Plants; Establishment of Atomic Safety and Licensing Board

Pursuant to delegation by the Commission dated December 29, 1972, published in the Federal Register, 37 FR 28,710 (1972), and sections 2.205, 2.700, 2.702, 2.714, 2.714a, 2.717, 2.721, and 2.772(j) of the Commission's Regulations, all as amended, an Atomic Safety and Licensing Board is being established to preside over the following proceeding:

Tennessee Valley Authority,

Watts Bar Nuclear Plant, Unit 1;

Sequoyah Nuclear Plant, Units 1 & 2,

Browns Ferry Nuclear Plant, Units 1, 2 & 3,

Order Imposing Civil Monetary Penalty

This Board is being established pursuant to the request of the Tennessee Valley Authority (TVA), the licensee for the Watts Bar (Unit 1), Sequoyah (Units 1 & 2), and Browns Ferry (Units 1, 2 & 3) Nuclear Plants, for a hearing regarding an Order issued by the Director, Office of Enforcement, dated May 4, 2001, entitled “Order Imposing Civil Monetary Penalty” (65 FR 27,166 (May 4, 2001)).

The Board is comprised of the following administrative judges:

Charles Bechhoefer, Chairman, Atomic Safety and Licensing Board Panel, U.S. Nuclear Regulatory Commission, Washington, D.C. 20555-0001

Dr. Richard F. Cole, Atomic Safety and Licensing Board Panel, U.S. Nuclear Regulatory Commission, Washington, DC 20555-0001

Ann Marshall Young, Atomic Safety and Licensing Board Panel, U.S. Nuclear Regulatory Commission, Washington, DC 20555-0001

All correspondence, documents and other materials shall be filed with the Panel Judges in accordance with 10 CFR 2.701.

Issued at Rockville, Maryland, this 26th day of June 2001.
G. Paul Bollwerk III,
Chief Administrative Judge, Atomic Safety and Licensing Board Panel.

[FR Doc. 01-16551 Filed 6-29-01; 8:45 am]

BILLING CODE 7590-01-P